DEPARTMENT OF DEFENSE

Department of the Navy

32 CFR Part 706

Certifications and Exemptions Under the International Regulations for Preventing Collisions at Sea, 1972

AGENCY: Department of the Navy, DOD.

ACTION: Final rule.

SUMMARY: The Department of the Navy is amending its certifications and exemptions under the International Regulations for Preventing Collisions at Sea, 1972 (72 COLREGS), to reflect that the Deputy Assistant Judge Advocate General of the Navy (Admiralty and Maritime Law) has determined that Landing Craft, Air Cushion (LCAC) is a vessel of the Navy which, due to its special construction and purpose, cannot fully comply with certain provisions of the 72 COLREGS without interfering with its special function as a Naval ship. The intended effect of this rule is to warn mariners in waters where 72 COLREGS apply.

DATES: Effective Date: May 21, 2004.

FOR FURTHER INFORMATION CONTACT: Commander Gregg A. Cervi, JAGC, U.S. Navy, Deputy Assistant Judge Advocate General (Admiralty and Maritime Law), Office of the Judge Advocate General, 1322 Patterson Avenue, Suite 3000, Washington Navy Yard, DC 20374-5066, telephone 202-685-5040.

SUPPLEMENTARY INFORMATION: Pursuant to the authority granted in 33 U.S.C. 1605, the Department of the Navy amends 32 CFR part 706. This amendment provides notice that the Deputy Assistant Judge Advocate General of the Navy (Admiralty and Maritime Law), under authority delegated by the Secretary of the Navy, has certified that Landing Craft, Air Cushion (LCAC) is a vessel of the Navy which, due to its special construction and purpose, cannot fully comply with the following specific provisions of the 72 COLREGS without interfering with its special function as a naval ship: Annex I paragraph 2(a)(i) pertaining to the height of the temporary masthead light above the hull, and paragraph 2(f)(i) pertaining to placement of the temporary masthead light above and clear of all obstructions. The Deputy Assistant Judge Advocate General of the Navy (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on this vessel in a manner differently from that prescribed herein will adversely affect the vessel's ability to perform its military functions.

List of Subjects in 32 CFR Part 706

Marine safety, Navigation (water), Vessels.

For the reasons set forth in the preamble, amend part 706 of title 32 of the Code of Federal Regulations as follows:

PART 706—CERTIFICATIONS AND EXEMPTIONS UNDER THE INTERNATIONAL REGULATIONS FOR PREVENTING COLLISIONS AT SEA, 1972

1. The authority citation for 32 CFR Part 706 continues to read as follows:

Authority: 33 U.S.C. 1605.

2. Amend Table One of § 706.2 by revising the second notation for “LCAC (class)” and footnote 2, as follows:

§ 706.2 Certifications of the Secretary of the Navy under Executive Order 11964 and 33 U.S.C. 1605.

* * * * *

Table One
Vessel | Number | Distance in meters of forward masthead light below minimum required height. § 2(a)(i) Annex I
* * * * * * *
LCAC (class) | LCAC 1 through 100 | 7.84 (Temp.)²
* * * * * * *
* * * * * * *
² The temporary masthead light is 3.98 meters athwartship to starboard of centerline, 4.16 meters above the main deck.

3. Amend Table Two of § 706.2 by revising the second notation for “LCAC (class)” and footnote 4 as follows:

§ 706.2 Certifications of the Secretary of the Navy under Executive Order 11964 and 33 U.S.C. 1605.

* * * * *

Table Two
Vessel | Number | Masthead lights, distance to stbd of keel in meters; Rule 21(a) | Forward anchor light, distance below flight deck in meters; § 2(K), Annex I | Forward anchor light, number of; Rule 30(a)(i) | AFT anchor light, distance below flight deck in meters; Rule 21(e), Rule 30(a)(ii) | AFT anchor light, number of; Rule 30(a)(ii) | Side lights, distance below flight deck in meters; § 2(g), Annex I | Side lights, distance forward of forward masthead light in meters; § 3(b), Annex I | Side lights, distance inboard of ship's sides in meters; § 3(b), Annex I
* * * * * * *
LCAC Class | LCAC 1 through LCAC 100 | 3.98 (Temp.)⁴ |  |  |  |  |  | ³ 1.5
* * * * * * *
* * * * * * *
⁴ The temporary masthead light is 3.98 meters athwartship to starboard of centerline, 4.16 meters above the main deck.

3. Amend Table Four, Paragraph 9 of § 706.2 by revising the third sentence of paragraph 2; and adding paragraph 3 to read as follows:

§ 706.2 Certifications of the Secretary of the Navy under Executive Order 11964 and 33 U.S.C. 1605.

* * * * *

Table Four

9. * * *

* * * The temporary masthead light is located 3.98 meters athwartship to starboard of centerline, 4.16 meters in height above the hull. * * *

* * * * *

The arc of visibility of the temporary masthead light required by rule 21(a) may be obstructed at the following angles relative to the LCAC's heading, from 37.00 degrees thru 90.00 degrees up to a distance of 112.5 meters from the craft and from 276.75 degrees thru 277.25 degrees.

* * * * *

Approved: May 21, 2004.
G. A. Cervi,
Commander, JAGC, U.S. Navy, Deputy Assistant Judge Advocate, General (Admiralty and Maritime Law).

Editorial Note: This document was received at the Office of the Federal Register August 8, 2005.

[FR Doc. 05-15900 Filed 8-10-05; 8:45 am]

BILLING CODE 3810-FF-P